DEPARTMENT OF AGRICULTURE

Rural Utilities Service

Dairyland Power Cooperative; Notice of Intent

AGENCY: Rural Utilities Service, USDA.

ACTION: Notice of Intent to Hold Scoping Meeting and Prepare an Environmental Assessment.

SUMMARY: Notice is hereby given that the Rural Utilities Service (RUS), pursuant to the National Environmental Policy Act (NEPA) of 1969 (42 U.S.C. 4321 et seq.), the Council on Environmental Quality (CEQ) Regulations for implementing NEPA (40 CFR parts 1500-1508), and RUS Environmental Policies and Procedures (7 CFR Part 1794) proposes to hold a scoping meeting and prepare an Environmental Assessment (EA) for its Federal action related to a project proposed by Dairyland Power Cooperative (DPC) of La Crosse, Wisconsin. The project consists of constructing a natural gas-fired simple cycle, combustion turbine power generation facility in Wheaton Township in Chippewa County, Wisconsin. Total electrical output from the facility is expected to range from 71 megawatts (MW) to 98 MW depending upon operating conditions.

DATES: RUS will conduct a scoping meeting in open house forum on Tuesday, July 11, 2000, from 5 p.m. until 8 p.m.

ADDRESSES: The scoping meeting will be held at the Chippewa County Courthouse, 711 North Bridge Street, Chippwea Falls, Wisconsin.

FOR FURTHER INFORMATION CONTACT: Nurul Islam, Environmental Protection Specialist, RUS, Engineering and Environmental Staff, 1400 Independence Avenue, SW, Washington, DC 20250-1571, telephone (202) 720-1784, FAX: (202) 720-0820, e-mail: nislam@rus.usda.gov; or George L. Johnston, Senior Environmental Biologist, DPC, 3200 East Avenue south, La Crosse, Wisconsin 54601, telephone (608) 787-1322, FAX: (608) 787-1241, e-mail: glj@dairynet.com.

SUPPLEMENTARY INFORMATION: DPC proposes to construct the facility at a site in Wheaton Township in Chippewa County, Wisconsin. The preferred site is the location of DPC's Elk Mound Substation. The primary purpose of the facility is to meet DPC peak electrical load during hot summer weather. Under those conditions the facility's expected output is about 71 MW of power. The proposed project will consist of two simple cycle combustion turbines. The two turbines will have a maximum rating of 49 MW each, with a summertime rating of 35.5 MW. The plant will require approximately 5 acres of land. The substation facilities will also require some upgrading. A 2.2 miles long new high-pressure gas line from the proposed generating station north to an existing gas line will provide gas supply. The total water usage will be approximately 3 million gallons per year.

Alternatives to be considered by RUS and DPC include no action, purchased power, upgrade of existing resources, alternative sites, hydropower, fossil fuel technologies, customer-owned generation, energy conservation, renewable resources, and emerging technologies.

DPC has prepared an Alternative Evaluation and Site Selection Study for the project. The Alternative Evaluation and Site Selection Study is available for public review at the RUS or DPC at the addresses provided in this notice or at the following locations:

Chippewa Falls Public Library, 105 West Central Street, Chippewa Falls, Wisconsin.

L. E. Phillips Memorial Public Library, 400 Eau Claire Street, Eau Claire, Wisconsin.

Federal, state and local agencies, private organizations, and the public are invited to participate in the planning and analysis of the proposed project. Representatives from RUS and DPC will be available at the scoping meeting to discuss RUS's environmental review process, the proposed project and the alternatives being considered, scope of the environmental issues to be considered, and answer questions. Oral and written comments will be accepted at the scoping meeting. Written comments regarding the proposed project will also be accepted for at least 30 days after the scoping meeting. All written comments should be sent to RUS at the address provided in this notice.

Any final action by RUS related to the proposed project will be subject to, and contingent upon, compliance with all relevant Federal environmental laws and regulations and completion of environmental review procedures as prescribed by the CEQ Regulations and RUS Environmental Policies and Procedures.

Dated: June 15, 2000.
Mark S. Plank,
Acting Director, Engineering and Environmental Staff, Rural Utilities Service.

[FR Doc. 00-15562 Filed 6-20-00; 8:45 am]

BILLING CODE 3410-15-P